DEPARTMENT OF HEALTH AND HUMAN SERVICES

National Institutes of Health

State-of-the-Science Conference: Cesarean Delivery on Maternal Request; Notice

Notice is hereby given of the National Institutes of Health (NIH) “State-of-the-Science Conference: Cesarean Delivery on Maternal Request” to be held March 27-29, 2006, in the NIH Natcher Conference Center, 45 Center Drive, Bethesda, Maryland 20892. The conference will begin at 8:30 a.m. on March 27 and 28, and at 9 a.m. on March 29, and will be open to the public.

Despite the national goal of reducing rates of cesarean delivery to 15 percent of births established as part of Healthy People 2010, cesarean delivery rates have continued to increase. In 2003, 1.1 million or 27.5 percent of births in the U.S. were by cesarean delivery. An estimated 2.5 percent of births that year were cesarean deliveries performed on request, in the absence of medical necessity, and the rate of cesareans on request appears to be growing rapidly over time.

The potential benefits of elective cesarean delivery as compared to vaginal delivery are not fully understood but are thought to include decreased risk of urinary incontinence, pelvic organ prolapse, anal sphincter damage and fecal incontinence. Elective cesarean delivery also has the benefit of flexible timing for mother and physician. However, like any major surgical procedure, there are risks associated with cesarean delivery. Risks that are known to be higher for cesarean deliveries than for vaginal delivery include adverse reactions to anesthesia, breathing problems, bleeding, infection, urinary tract injury, and injury to the baby. In addition, recovery time following cesarean delivery is typically longer than for vaginal delivery.

Given these risks, any decision to deliver by cesarean delivery when vaginal delivery is also available should be informed by the best possible information regarding potential health outcomes, good and bad, for both mother and baby. Toward that end, the National Institute of Child Health and Human Development and the Office of Medical Applications of Research of the National Institutes of Health will convene a State-of-the-Science Conference from March 27 to 29, 2006, to assess the available scientific evidence relevant to the following questions:

• What is the trend and incidence of cesarean delivery over time in the United States and in other countries?

• What are the short-term (under one year) and long-term benefits and harms to mother and baby associated with cesarean by request versus attempted vaginal delivery?

• What factors influence benefits and harms?

• What future research directions need to be considered to get evidence for making appropriate decisions regarding cesarean on request or attempted vaginal delivery?

An impartial, independent panel will be charged with reviewing the available published literature in advance of the conference, including a systematic literature review commissioned through the Agency for Healthcare Research and Quality. The first day and a half of the conference will consist of presentations by expert researchers and practitioners, and public discussions. On Wednesday, March 29, the panel will present a statement of its collective assessment of the evidence to answer each of the questions above. The panel will also hold a press conference to address questions from the media. The draft statement will be published online later that day, and the final version will be released approximately six weeks later.

The primary sponsors of this meeting are the National Institute of Child Health and Human Development and the NIH Office of Medical Applications of Research.

Advance information about the conference and conference registration materials may be obtained from American Institutes for Research of Silver Spring, Maryland, by calling 888-644-2667, or by sending e-mail to consensus@mail.nih.gov. American Institutes for Research's mailing address is 10720 Columbia Pike, Silver Spring, MD 20901. Registration information is also available on the NIH Consensus Development Program Web site at http://consensus.nih.gov.

Please Note: The NIH has recently instituted new security measures to ensure the safety of NIH employees and property. All visitors must be prepared to show a photo ID upon request. Visitors may be required to pass through a metal detector and have bags, backpacks, or purses inspected or x-rayed as they enter NIH buildings. For more information about the new security measures at NIH, please visit the Web site at http://www.nih.gov/about/visitorsecurity.htm.

Dated: January 24, 2006.
Raynard S. Kington,
Deputy Director, National Institutes of Health.

[FR Doc. E6-1272 Filed 1-31-06; 8:45 am]

BILLING CODE 4140-01-P